DEPARTMENT OF COMMERCE

Foreign-Trade Zones Board

[Order No. 1853]

Reorganization of Foreign-Trade Zone 149 Under Alternative Site Framework Freeport, TX

Pursuant to its authority under the Foreign-Trade Zones Act of June 18, 1934, as amended (19 U.S.C. 81a-81u), the Foreign-Trade Zones Board (the Board) adopts the following Order:

Whereas, the Board adopted the alternative site framework (ASF) (74 FR 1170-1173, 01/12/2009; correction 74 FR 3987, 01/22/2009; 75 FR 71069-71070, 11/22/2010) as an option for the establishment or reorganization of zones;

Whereas, Port Freeport, grantee of Foreign-Trade Zone 149, submitted an application to the Board (FTZ Docket 27-2012, filed 04/02/2012) for authority to reorganize under the ASF with a service area of the Counties of Brazoria and Fort Bend, Texas, within and adjacent to the Freeport Customs and Border Protection port of entry, FTZ 149's existing Sites 1, 3 and 10 would be categorized as magnet sites, and FTZ 149's Sites 2, 4, 5, 6, 7, 8, 9, 11 and 12 would be removed from the zone;

Whereas, notice inviting public comment was given in the Federal Register (77 FR 21081-21082, 04/09/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 149 under the alternative site framework is approved, subject to the FTZ Act and the Board's regulations, including Section 400.13, to the Board's standard 2,000-acre activation limit for the zone, and to a five-year ASF sunset provision for magnet sites that would terminate authority for Sites 3 and 10 if not activated by August 31, 2017.

Signed at Washington, DC, this 29th day of August 2012.
Paul Piquado,
Assistant Secretary of Commerce for Import Administration, Alternate Chairman Foreign-Trade Zones Board.
Andrew McGilvray,
Executive Secretary.

[FR Doc. 2012-21994 Filed 9-5-12; 8:45 am]

BILLING CODE P